FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 201045-002, 003.

Title: Master Contract Agreement among the United States Maritime Alliance Ltd., Carriers Container Council, Inc. and International Longshoremen's Association.

Parties: United States Maritime Alliance Ltd. Carriers Container Council, Inc., International Longshoremen's Association.

Synopsis: The amendments provide for changes in the health plan section of the master contract, for an update of the parties to the agreement, as well as for the extension of the contract through September 30, 2004.

Dated: September 8, 2000.
By Order of the Federal Maritime Commission.
Bryant L. VanBrakle,
Secretary.

[FR Doc. 00-23525 Filed 9-12-00; 8:45 am]

BILLING CODE 6730-01-U